DEPARTMENT OF COMMERCE

National Oceanic and Atmospheric Administration

[RTID 0648-XB719]

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day meeting to consider actions affecting New England fisheries in the exclusive economic zone (EEZ). Due to ongoing public safety considerations related to COVID-19, this meeting will be conducted entirely by webinar.

DATES: The webinar meeting will be held on Tuesday, Wednesday, and Thursday, February 1, 2, and 3, 2022, beginning at 10 a.m. on Tuesday and 9 a.m. on Wednesday and Thursday.

ADDRESSES: All meeting participants and interested parties can register to join the webinar at https://register.gotowebinar.com/register/3241130900598780683.

Council address: New England Fishery Management Council, 50 Water Street, Mill 2, Newburyport, MA 01950; telephone: (978) 465-0492; www.nefmc.org.

FOR FURTHER INFORMATION CONTACT: Thomas A. Nies, Executive Director, New England Fishery Management Council; telephone: (978) 465-0492, ext. 113.

SUPPLEMENTARY INFORMATION:

Agenda

Tuesday, February 1, 2022

After introductions and brief announcements, the Council will receive reports on recent activities from its Chair and Executive Director, the Greater Atlantic Regional Fisheries Office (GARFO) Regional Administrator, the Northeast Fisheries Science Center (NEFSC) Director, the NOAA Office of General Counsel, the Mid-Atlantic Fishery Management Council liaison, staff from the Atlantic States Marine Fisheries Commission (ASMFC), and representatives from the U.S. Coast Guard, NOAA's Office of Law Enforcement, and the Northeast Trawl Advisory Panel. Next, the Council will receive the Skate Committee report and take final action on Framework Adjustment 9 to the Northeast Skate Complex Fishery Management Plan (FMP). This framework will revise: (1) The FMP's objectives; and (2) conditions for open access federal skate fishing permits.

Following the lunch break, the Council will take up ecosystem-based fishery management (EBFM) and receive brief updates on: (1) Informational EBFM workshops using public outreach materials, focusing on potential application to a Georges Bank example fishery ecosystem plan (eFEP); and (2) initial work to develop a Beta Management Strategy Evaluation (MSE) for EBFM and the Georges Bank eFEP. Then, the Council will go into the Habitat Committee report, which will cover three items. First, the Council will initiate a framework adjustment to designate Habitat Areas of Particular Concern in Southern New England. Second, the Council will receive a report on recent discussions between New England and Mid-Atlantic Council leadership about the Great South Channel Habitat Management Area (HMA) and consider next steps, including a clam industry request for secretarial emergency action to gain additional access to the HMA. The Council will conclude the habitat report with updates on offshore energy and other ongoing habitat-related work. It then will adjourn for the day. Following adjournment, the Council will go into a closed session to discuss two items: (1) Scientific and Statistical Committee appointments; and (2) Council policies on U.S. Equal Employment Opportunity (EEO) harassment in the workplace issues.

Wednesday, February 2, 2022

The Council will begin the day with the Scallop Committee report. First, the Council will receive and discuss the final report for the evaluation of the scallop fishery's rotational area management program. The Council also will receive a brief update on work being conducted by the Scallop Survey Working Group. This will be followed by an initial update on upcoming scoping sessions for potential development of a limited access leasing program. Next, the Council will receive a presentation from GARFO on the formation of the Atlantic Sturgeon Bycatch Working Group and an overview of the working group's planned activities. This will be followed by a report on: (1) Results from the 27th Regular Meeting of the International Commission for the Conservation of Atlantic Tunas (ICCAT); and (2) recommendations from the Advisory Committee to the U.S. Section of ICCAT. Next, members of the public will have the opportunity to speak during an open comment period on issues that relate to Council business but are not included on the published agenda for this meeting. The Council asks the public to limit remarks to 3-5 minutes. These comments will be received through the webinar. A guide for how to publicly comment through the webinar is available on the Council website at https://s3.amazonaws.com/nefmc.org/NEFMC-meeting-remote-participation_generic.pdf.

Following the lunch break, the Council will receive a congressional update about ongoing federal legislative activities. Next, the Council will receive a briefing on Atlantic mackerel stock status and work being done by the Mid-Atlantic Council to revise the mackerel rebuilding program based on results from the 2021 Atlantic Mackerel Management Track Stock Assessment. This will be followed by an update on the East Coast Climate Change Scenario Planning initiative, which will include: (1) A summary of the August/September 2021 kick-off webinars that were held to introduce scenario planning to stakeholders; and (2) an outline of next steps, including information about the upcoming February/March 2022 webinars that are intended to explore physical, biological, and social/economic drivers and uncertainties about how the marine ecosystem could be affected by climate change. The Council then will adjourn for the day.

Thursday, February 3, 2022

The Council will devote the third day of its meeting to the Groundfish Committee report, which includes three primary components. These are: (1) A presentation on and Council discussion of the final report from the 2021 series of Atlantic Cod Stock Structure Workshops, which covered both science and management issues; (2) a progress report from the Atlantic Cod Research Track Working Group, followed by Council discussion on the potential number of cod stocks that should be considered for assessment purposes and potential management units; and (3) the development of recommendations on fishing year 2022 recreational measures for Gulf of Maine cod and Gulf of Maine haddock. These recommendations will be submitted to GARFO.

The Council has scheduled a lunch break, which will be taken at a convenient time during the Groundfish Committee report. Following the conclusion of groundfish business, the Council will close out the meeting with other business.

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is being conducted entirely by webinar. Requests for auxiliary aids should be directed to Thomas A. Nies (see ADDRESSES) at least 5 days prior to the meeting date.

Authority: 16 U.S.C. 1801 et seq.

Dated: January 10, 2022.
Tracey L. Thompson,
Acting Deputy Director, Office of Sustainable Fisheries, National Marine Fisheries Service.

[FR Doc. 2022-00611 Filed 1-12-22; 8:45 am]

BILLING CODE 3510-22-P